ENVIRONMENTAL PROTECTION AGENCY

[ER-FRL-6253-1]

Environmental Impact Statements and Regulations; Availability of EPA Comments

Availability of EPA comments prepared March 20, 2000 Through March 24, 2000 pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 09, 1999 (63 FR 17856).

Draft EISs

ERP No. D-AFS-E65053-NC Rating EC2, Croatan National Forest Revised Land and Resource Management Plan (1986), Implementation, Carteret, Craven, and Jones Counties, NC.

Summary: EPA expressed concern regarding potential water quality impacts and that the preferred alternative could potentially clearcut too much timber too rapidly for conversion to longleaf pines and consequently be counterproductive to RCW recovery. EPA recommended that the alternatives discussion be modified to take this concern into account.

ERP No. D-AFS-J65320-MT Rating EC2, Knox-Brooks Timber Sales and Road Rehabilitation, Implementation, Lolo National Forest, Super Ranger District, Mineral County, MT.

Summary: EPA expressed environmental concerns regarding potential erosion impacts, wetland impacts, aquatic effects of herbicides, and the level of monitoring to detect effects of management activities. EPA requested additional information on these issues and mitigation measures to reduce the impacts of management actions.

ERP No. D-AFS-J65321-MT Rating EC2, Mill-Key-Wey Project, Proposed Timber Harvesting, Ecosystem Burning, Road Construction and Reconstruction, Implementation, Lolo National Forest, Superior Ranger District, Mineral County, MT.

Summary: EPA expressed concerns regarding harvests on erosive soils, wetland impacts, use of weed control chemical and the level of monitoring proposed to identify project impacts. The EPA requested additional information on these issues and mitigation measures to reduce potential impacts of the management actions.

ERP No. D-SFW-K90030-CA Rating EC2, San Diequito Wetland Restoration Project, Implementation, Comprehensive Restoration Plan, COE Section 404 Permit, Cities of Del Mar and San Diego, San Diego County, CA.

Summary: EPA expressed concern due to the potential for undiscovered contaminated soil and hazardous waste. EPA requested that soil contamination be monitored and that a monitoring, emergency response, and reporting plan be included as part of the restoration program.

Final EISs

ERP No. F-BLM-J67028-CONorth Fork Coal Program, Approval of Two Lease-By-Applications (LBA) and Exploration License for Iron Point and Elk Creek Coal Leases, Delta and Gunnison Counties, CO.

Summary: No formal comment letter sent to preparing agency.

ERP No. F-NPS-G02009-TX Padre Island National Seashore Oil and Gas Management Plan, Implementation, Kleberg, Kenedy and Willacy Counties, TX.

Summary: EPA previous concerns have been adequately responded to, therefore EPA has no objection to the action as proposed.

Dated: April 4, 2000.
Joseph C. Montgomery,
Director, Office of Federal Activities.

[FR Doc. 00-8669 Filed 4-6-00; 8:45 am]

BILLING CODE 6560-50-P